DEPARTMENT OF TRANSPORTATION

Federal Aviation Administration

14 CFR Part 39

[Docket No. FAA-2019-0484; Product Identifier 2019-NM-065-AD]

RIN 2120-AA64

Airworthiness Directives; Airbus SAS Airplanes

AGENCY: Federal Aviation Administration (FAA), DOT.

ACTION: Proposed rule; withdrawal.

SUMMARY: The FAA is withdrawing a supplemental notice of proposed rulemaking (SNPRM) that proposed to adopt a new airworthiness directive (AD) that would have applied to all Airbus SAS Model A330-200, A330-200 Freighter, A330-300, A340-200, A340-300, A340-500, and A340-600 series airplanes. The SNPRM would have required repetitive tests of affected free fall actuators (FFAs), and replacement of any affected FFA that fails a test with a serviceable FFA; as specified in European Union Aviation Safety Agency (EASA) AD 2019-0164, dated July 11, 2019 (“EASA AD 2019-0164”). Since issuance of the SNPRM, the FAA has determined that the SNPRM does not adequately address the identified unsafe condition. Accordingly, the SNPRM is withdrawn.

DATES: As of June 8, 2020, the proposed rule, which was published in the Federal Register on January 21, 2020 (85 FR 3279), is withdrawn.

ADDRESSES:

Examining the AD Docket

You may examine the AD docket on the internet at https://www.regulations.gov by searching for and locating Docket No. FAA-2019-0484; or in person at Docket Operations between 9 a.m. and 5 p.m., Monday through Friday, except Federal holidays. The AD docket contains this AD action, any comments received, and other information. The street address for Docket Operations is U.S. Department of Transportation, Docket Operations, M-30, West Building Ground Floor, Room W12-140, 1200 New Jersey Avenue SE, Washington, DC 20590.

FOR FURTHER INFORMATION CONTACT: Vladimir Ulyanov, Aerospace Engineer, Large Aircraft Section, International Validation Branch, FAA, 2200 South 216th St., Des Moines, WA 98198; phone and fax: 206-231-3229.

SUPPLEMENTARY INFORMATION:

Discussion

The FAA issued an SNPRM that proposed to amend 14 CFR part 39 by adding an AD that would have applied to the specified products. The SNPRM was published in the Federal Register on January 21, 2020 (85 FR 3279). The SNPRM was prompted by a report that an airplane failed to extend its nose landing gear (NLG) using the free fall method, due to loss of the green hydraulic system. The SNPRM proposed to require repetitive tests of affected FFAs, and replacement of any affected FFA that fails a test with a serviceable FFA; as specified in EASA AD 2019-0164, dated July 11, 2019 (“EASA AD 2019-0164”).

Actions Since the SNPRM Was Issued

Since issuance of the SNPRM, EASA AD 2019-0164 has been replaced by EASA AD 2020-0076, dated March 30, 2020 (“EASA AD 2020-0076”), and the FAA has determined that the SNPRM does not adequately address the unsafe condition. In light of these changes, the FAA is considering further rulemaking.

Withdrawal of the SNPRM constitutes only such action and does not preclude the FAA from further rulemaking on this issue, nor does it commit the FAA to any course of action in the future.

FAA's Conclusions

Upon further consideration, the FAA has determined that the SNPRM does not adequately address the identified unsafe condition. Accordingly, the SNPRM is withdrawn.

Regulatory Findings

Since this action only withdraws an SNPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the supplemental notice of proposed rulemaking, Docket No. FAA-2019-0484, which was published in the Federal Register on January 21, 2020 (85 FR 3279), is withdrawn.

Issued on June 1, 2020.
Lance T. Gant,
Director, Compliance & Airworthiness Division, Aircraft Certification Service.

[FR Doc. 2020-12226 Filed 6-5-20; 8:45 am]

BILLING CODE 4910-13-P